DEPARTMENT OF HEALTH AND HUMAN SERVICES

[CMS-3417-N]

Secretarial Review and Publication of the 2021 Annual Report to Congress and the Secretary Submitted by the Consensus-Based Entity Regarding Performance Measurement

AGENCY: Office of the Secretary of Health and Human Services, HHS.

ACTION: Notice.

SUMMARY: This notice acknowledges the Secretary of the Department of Health and Human Services' (the Secretary's) receipt and review of the National Quality Forum 2021 Annual Activities Report to Congress, submitted by the consensus-based entity (CBE) under a contract with the Secretary as mandated by the Social Security Act (the Act). The Secretary has reviewed the National Quality Forum's 2021 Annual Report and is publishing the report in the Federal Register together with the Secretary's comments on the report not later than 6 months after receiving the report in accordance with section 1890(b)(5)(B) of the Act. This notice fulfills the statutory requirements.

FOR FURTHER INFORMATION CONTACT: LaWanda Burwell, (410) 294-2056.

I. Background

The United States Department of Health and Human Services (HHS) has long recognized that a high functioning health care system that provides higher quality care requires accurate, valid, and reliable measurement of quality and efficiency. The Medicare Improvements for Patients and Providers Act of 2008 (MIPPA) (Pub. L. 110-275) added section 1890 of the Social Security Act (the Act), which requires the Secretary of HHS (the Secretary) to contract with a consensus based entity (CBE) to perform multiple duties to help improve performance measurement. Section 3014 of the Patient Protection and Affordable Care Act (the Affordable Care Act) (Pub. L. 111-148) expanded the duties of the CBE to help in the identification of gaps in available measures and to improve the selection of measures used in health care programs. The Secretary extends his appreciation to the CBE in their partnership for the fulfillment of these statutory requirements.

In January 2009, a competitive contract was awarded by HHS to the National Quality Forum (NQF) to fulfill requirements of section 1890 of the Act. A second, multi-year contract was awarded again to NQF after an open competition in 2012. A third, multi-contract was awarded again to NQF after an open competition in 2017. Section 1890(b) of the Act requires the following:

Priority Setting Process: Formulation of a National Strategy and Priorities for Health Care Performance Measurement. The CBE must synthesize evidence and convene key stakeholders to make recommendations on an integrated national strategy and priorities for health care performance measurement in all applicable settings. In doing so, the CBE must give priority to measures that: (1) address the health care provided to patients with prevalent, high-cost chronic diseases; (2) have the greatest potential for improving quality, efficiency, and patient-centered health care; and (3) may be implemented rapidly due to existing evidence, standards of care, or other reasons. Additionally, the CBE must take into account measures that: (1) may assist consumers and patients in making informed health care decisions; (2) address health disparities across groups and areas; and (3) address the continuum of care furnished by multiple providers or practitioners across multiple settings.

Endorsement of Measures. The CBE must provide for the endorsement of standardized health care performance measures. This process must consider whether measures are evidence-based, reliable, valid, verifiable, relevant to enhanced health outcomes, actionable at the caregiver level, feasible to collect and report, responsive to variations in patient characteristics such as health status, language capabilities, race or ethnicity, and income level and are consistent across types of health care providers, including hospitals and physicians.

Maintenance of CBE Endorsed Measures. The CBE is required to establish and implement a process to ensure that endorsed measures are updated (or retired if obsolete) as new evidence is developed.

Removal of Measures. Section 102(c) of Division CC of the Consolidated Appropriations Act, 2021 amended section 1890(b) of the Act to permit the CBE to provide input to the Secretary on measures that may be considered for removal.

Convening Multi-Stakeholder Groups. The CBE must convene multi-stakeholder groups to provide input on: (1) the selection of certain categories of quality and efficiency measures, from among such measures that have been endorsed by the entity and from among such measures that have not been considered for endorsement by such entity but are used or proposed to be used by the Secretary for the collection or reporting of quality and efficiency measures; and (2) national priorities for improvement in population health and in the delivery of health care services for consideration under the national strategy. The CBE provides input on measures for use in certain specific Medicare programs, for use in programs that report performance information to the public, and for use in health care programs that are not included under the Act. The multi-stakeholder groups provide input on quality and efficiency measures for various federal health care quality reporting and quality improvement programs including those that address certain Medicare services provided through hospices, ambulatory surgical centers, hospital inpatient and outpatient facilities, physician offices, cancer hospitals, end stage renal disease (ESRD) facilities, inpatient rehabilitation facilities, long-term care hospitals, psychiatric hospitals, and home health care programs.

Transmission of Multi-Stakeholder Input. Not later than February 1 of each year, the CBE must transmit to the Secretary the input of multi-stakeholder groups.

Annual Report to Congress and the Secretary. Not later than March 1 of each year, the CBE is required to submit to the Congress and the Secretary an annual report. The report is to describe:

• The implementation of quality and efficiency measurement initiatives and the coordination of such initiatives with quality and efficiency initiatives implemented by other payers;

• Recommendations on an integrated national strategy and priorities for health care performance measurement;

• Performance of the CBE's duties required under its contract with the Secretary;

• Gaps in endorsed quality and efficiency measures, including measures that are within priority areas identified by the Secretary under the national strategy established under section 399HH of the Public Health Service Act (National Quality Strategy), and where quality and efficiency measures are unavailable or inadequate to identify or address such gaps;

• Areas in which evidence is insufficient to support endorsement of quality and efficiency measures in priority areas identified by the Secretary under the National Quality Strategy, and where targeted research may address such gaps; and

• The convening of multi-stakeholder groups to provide input on: (1) the selection of quality and efficiency measures from among such measures that have been endorsed by the CBE and such measures that have not been considered for endorsement by the CBE but are used or proposed to be used by the Secretary for the collection or reporting of quality and efficiency measures; and (2) national priorities for improvement in population health and the delivery of health care services for consideration under the National Quality Strategy.

Section 50206(c)(1) of the Bipartisan Budget Act of 2018 (Pub. L. 115-123) amended section 1890(b)(5)(A) of the Act to require the CBE's annual report to Congress to include the following: (1) an itemization of financial information for the previous fiscal year ending September 30th, including annual revenues of the entity, annual expenses of the entity, and a breakdown of the amount awarded per contracted task order and the specific projects funded in each task order assigned to the entity; and (2) any updates or modifications to internal policies and procedures of the entity as they relate to the duties of the CBE including specifically identifying any modifications to the disclosure of interests and conflicts of interests for committees, work groups, task forces, and advisory panels of the entity, and information on external stakeholder participation in the duties of the entity.

The statutory requirements for the CBE to annually report to the Congress and the Secretary also specify that the Secretary must review and publish the CBE's annual report in the Federal Register, together with any comments of the Secretary on the report, not later than 6 months after receiving it.

This Federal Register notice complies with the statutory requirement for Secretarial review and publication of the CBE's annual report. NQF submitted a report on its 2021 activities to the Congress and the Secretary on March 1, 2022. The Secretary's Comments on this report are presented in section II of this notice, and the National Quality Forum 2021 Activities Report to the Congress and the Secretary is provided, as submitted to HHS, in the addendum to this Federal Register notice in section IV.

II. Secretarial Comments on the National Quality Forum 2021 Activities: Report to Congress and the Secretary of the Department of Health and Human Services

The Centers for Disease Control and Prevention reported that Black women are 3 times more likely to die from a pregnancy-related cause than White women. Understanding that a third of all maternal deaths occur between 1 week to a year after childbirth,¹ HHS implemented new policies and funding to ensure safer pregnancies and postpartum services for new parents and their babies as a strategy for improving maternal health for all women. We have granted first-time approval of proposals in five states to expand postpartum Medicaid coverage for mothers following delivery and created a new measure in Medicare that will encourage hospitals to standardize protocols addressing obstetric emergencies and complications arising during pregnancy.²

¹ CDC Working Together to Reduce Black Maternal Mortality.

² HHS Marks Maternal Health Week.

In 2021, HHS continued our partnership with the NQF to both explore improvements in maternal health and continue to advance health care quality measurement through a number of projects and forums. NQF worked with a variety of multi-stakeholder groups to identify and address national priorities with gaps in quality measurement, including areas with underlying health disparities made more prominent by COVID-19 Public Health Emergency (PHE), and NQF encouraged development of new measures in these areas.

Maternal Morbidity & Mortality Measurement

The dual aim of the NQF Maternal Morbidity and Mortality Measurement project was to develop tangible recommendations to enhance maternal morbidity and mortality measurement in the United States and drive toward improved health outcomes in maternity care. To achieve this dual aim, NQF convened a technical expert panel comprised of practitioners and policy makers to assess the current state of maternal morbidity and mortality measurement; recommended specific short- and long-term, innovative, and actionable ways to improve maternal morbidity and mortality measurement; and used that measurement to improve maternal health outcomes.

As in other areas of health and health care, COVID-19 magnified already disparate maternal health outcomes in 2021. NQF's Maternal Morbidity and Mortality Panel suggested approaches to enhance maternal morbidity and mortality measurement that focus on patient-reported outcomes (PROs) and measures that reflect the impacts of social determinants of health. They also emphasized access to care and a patient's lived experience to drive toward improved outcomes in maternal care.

Measure Applications Partnership

NQF's Measure Applications Partnership (MAP) advised HHS on which measures to use in federal reporting and value-based programs to ensure these measures address national health care priorities, fill critical measurement gaps, and increase public-private payer alignment. Using the existing MAP Coordinating Committee, NQF also piloted an initiative to provide recommendations to Centers for Medicare & Medicaid Services (CMS) on which measures could potentially be removed from federal quality programs. NQF added a new Health Equity Advisory Group to the MAP focused specifically on measurement issues related to health disparities and critical access hospitals.

The MAP also identified topics with too few or no measures at the individual federal program level: PROs, health equity, telehealth, and care coordination. Many of these areas align with critical health care priorities and CMS' Meaningful Measures Areas.³ NQF publicly posted guidance documents with strategic approaches and recommendations for measuring performance in these priority gap areas.

³ CMS Meaningful Measures Initiative.

Core Quality Measures Collaborative

NQF partnered with CMS and America's Health Insurance Plans to bring together public and private payers in the Core Quality Measures Collaborative (CQMC). The CQMC is designed to forge alignment in the quality measures used to incentivize high quality, cost-efficient care and reduce measurement burden in public- and private-sector value-based payment programs. The CQMC continued updating existing core measures to reflect the changing measurement landscape and developed a new set of cross-cutting measures applicable across multipleclinical conditions, settings, and procedures/services.

HHS values NQF's expertise in bringing many diverse stakeholders to the table to drive innovation in quality measurement as a key to addressing public health challenges, including improvements in maternal health.

III. Collection of Information Requirements

This document does not impose information collection requirements, that is, reporting, recordkeeping or third-party disclosure requirements. Consequently, there is no need for review by the Office of Management and Budget under the authority of the Paperwork Reduction Act of 1995 (44 U.S.C. 3501 et seq.).

IV. Addendum

In this Addendum, we are publishing the NQF Report on 2021 Activities to Congress and the Secretary of the Department of Health and Human Services, as submitted to HHS.

Xavier Becerra,
Secretary, Department of Health and Human Services.

BILLING CODE 4120-01-P

[FR Doc. 2022-18906 Filed 8-31-22; 8:45 am]

BILLING CODE 4120-01-C